DEPARTMENT OF HOMELAND SECURITY

Federal Emergency Management Agency

Agency Information Collection Activities: Proposed Collection; Comment Request

AGENCY: Federal Emergency Management Agency, DHS.

ACTION: Notice; 60-day notice and request for comments; Revision of a currently approved collection, OMB Number 1660-0083, FEMA Form 116-1, FEMA Form 085-1, FEMA Form 090-1.

SUMMARY: The Federal Emergency Management Agency, as part of its continuing effort to reduce paperwork and respondent burden, invites the general public and other Federal agencies to take this opportunity to comment on a continuing information collection. In accordance with the Paperwork Reduction Act of 1995, this notice seeks comments concerning the Loan Package for Community Disaster Loans and Special Community Disaster Loan Programs. This collection allows the government to make loans to communities that have suffered economic problems due to disasters.

SUPPLEMENTARY INFORMATION: The Community Disaster Loan Program (CDL) is authorized by Section 417 of the Robert T. Stafford Disaster Relief and Emergency Assistance Act, Public Law 93-288, as amended, provides policies and procedures for local governments and State and Federal officials concerning the Community Disaster Loan Program; FEMA regulations 44 CFR, Part 206.364, Subpart K, implements the statutes. The Assistant Administrator may make a CDL to any local government which has suffered a substantial loss of tax or other revenues as a result of a major disaster or emergency and which demonstrates a need for Federal financial assistance in order to perform its governmental functions.

Collection of Information

Title: Application for Community Disaster Loan (CDL) Program and the Special Community Disaster Loan (SCDL) Program.

Type of Information Collection: Revision of a currently approved collection.

OMB Number: 1660-0083.

Form Numbers: FEMA Form 116-1 Promissory Note, FEMA Form 085-1 Local Government Resolution Collateral Security, and FEMA Form 090-1 Certification of Eligibility for Community Disaster Loans.

Abstract: The Loan Package for the Community Disaster Loan and Special Community Disaster Loan Programs provides States, Local and Tribal governments that have suffered substantial loss of tax or other revenues as a result of a major disaster or emergency, the opportunity to obtain financial assistance in order to perform their governmental functions. Local governments can submit a loan package for the traditional and Special Community Disaster Loan Programs. These loans must be justified on the basis of need and actual expenses.

Affected Public: State, Local, or Tribal Government.

Estimated Total Annual Burden Hours: 875 hours.

Table A.12—Estimated Annualized Burden Hours and Costs
Type of respondent | Form name/form No. | No. of respondents | No. of responses per respondent | Avg. burden per response (in hours) | Total annual burden (in hours) | Avg. hourly wage rate | Total annual respondent cost
Local Government | Certification of Eligibility for Community Disaster Loans/FEMA Form 090-1 | 50 | 1 | 2.5 | 125 | $46.22 | $5,778
Local Government | Promissory Note/FEMA Form 116-1 | 50 | 1 | 4.0 | 200 | 46.22 | 9,244
Local Government | Local Government Resolution—Collateral Security/FEMA Form 085-1 | 50 | 1 | 10.0 | 500 | 46.22 | 23,110
Local Government | Letter of Application | 50 | 1 | 1.0 | 50 | 46.22 | 2,311
Total |  | 50 |  |  | 875 |  | 40,443

Estimated Cost: The estimated annualized cost to respondents based on wage rate categories is $40,443.00. The estimated annual cost to the Federal Government is $1,009,800.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or February 17, 2009.

ADDRESSES: Interested persons should submit written comments to Office of Management, Records Management Division, Federal Emergency Management Agency, 500 C Street, SW., Washington, DC 20472, Mail Drop Room 301.

FOR FURTHER INFORMATION CONTACT: Contact John Wilmot, Community Disaster Loan Program Manager, Public Assistance Division, Disaster Assistance Directorate, (202) 646-2544 for additional information. You may contact the Records Management Branch for copies of the proposed collection of information at facsimile number (202) 646-3347 or e-mail address: FEMA-Information-Collections@dhs.gov.

Samuel C. Smith,
Acting Director, Records Management Division, Office of Management, Federal Emergency Management Agency, Department of Homeland Security.

[FR Doc. E8-29767 Filed 12-15-08; 8:45 am]

BILLING CODE 9110-12-P